DEPARTMENT OF TRANSPORTATION

Federal Aviation Administration

Thirteenth Meeting: RTCA Special Committee 222, Inmarsat AMS(R)S.

AGENCY: Federal Aviation Administration (FAA), U.S. Department of Transportation (DOT).

ACTION: Meeting Notice of RTCA Special Committee 222, Inmarsat AMS(R)S.

SUMMARY: The FAA is issuing this notice to advise the public of the thirteenth meeting of the RTCA Special Committee 222, Inmarsat AMS(R)S

DATES: The meeting will be held June 10-11 from 9:00 a.m.-5:00 p.m.

ADDRESSES: The meeting will be held at the Hilton San Diego Resort & Spa, 1775 East Mission Bay Drive, San Diego, CA 92109.

FOR FURTHER INFORMATION CONTACT: This meeting will be held in conjunction with the 2013 Inmarsat Aero Conference. Participants who will be traveling to the meeting should contact Alan Schuster-Bruce, alan.schuster-bruce@inmarsat.com for information about accommodation. In addition, Jennifer Iversen may also be contacted directly at email: jiversen@rtca.org or by The RTCA Secretariat, 1150 18th Street NW., Suite 910, Washington, DC, 20036, or by telephone at (202) 330-0662/(202) 833-9339, fax (202) 833-9434, or Web site at http://www.rtca.org.

SUPPLEMENTARY INFORMATION: Pursuant to section 10(a)(2) of the Federal Advisory Committee Act (Pub. L. 92-463, 5 U.S.C., App.), notice is hereby given for a meeting of Special Committee 222. The agenda will include the following:

June 10-11

• Greetings & Attendance.

• Review summary of February 2103 meeting (12th Plenary)

• Report on the status of the DO-343 MASPS approval process

• The primary focus of the meeting will be working sessions dedicated to advancing the DO-262 generic and SwiftBroadband-specific material. Attendees should be prepared to contribute to this effort.

• Other items as appropriate.

• Review action items from 11th and 12th Plenary.

• Schedule 14th Plenary.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 15, 2013.
Paige Williams,
Management Analyst, NextGen, Business Operations Group, Federal Aviation Administration.

[FR Doc. 2013-12464 Filed 5-23-13; 8:45 am]

BILLING CODE 4910-13-P